DEPARTMENT OF THE INTERIOR

National Park Service

[N6645; NPS-WASO-NAGPRA-NPS0041379; PPWOCRADN0-PCU00RP14.R50000]

Notice of Inventory Completion: Mississippi Department of Archives and History, Jackson, MS

AGENCY: National Park Service, Interior.

ACTION: Notice.

SUMMARY: In accordance with the Native American Graves Protection and Repatriation Act (NAGPRA), the Mississippi Department of Archives and History (MDAH) has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Cindy Carter-Davis, Chief Archaeologist, Mississippi Department of Archives and History, Historic Preservation Division, 100 South State Street, P.O. Box 571, Jackson, MS 39205, email ccarterdavis@mdah.ms.gov.

SUPPLEMENTARY INFORMATION: This notice is published as part of the National Park Service's administrative responsibilities under NAGPRA. The determinations in this notice are the sole responsibility of the Mississippi Department of Archives and History, and additional information on the determinations in this notice, including the results of consultation, can be found in its inventory or related records. The National Park Service is not responsible for the determinations in this notice.

Abstract of Information Available

Based on the information available, in 2018, human remains from 22PA587 (Dugger Bluff) were listed in a Notice of Inventory Completion, published in the Federal Register on April 13, 2018 (FR 2018-07699). Also in 2021, human remains and AFO from 22PA587 (Dugger Bluff) were listed in a Notice of Inventory Completion, published in the Federal Register on January 22, 2021 (FR 2021-01340). These human remains and associated funerary objects were repatriated to The Chickasaw Nation. This notice includes additional human remains and associated funerary objects not included in the previous repatriations by the Mississippi Department of Archives and History.

Human remains representing, at least, eight individuals have been identified from 22PA587 (Dugger Bluff). The nine lots of associated funerary objects are one lot Native American ceramics, one lot lithics, one lot faunal remains, one lot shell, one lot fired clay, one lot organic material, one lot wood, one lot ochre, and one lot soil sample. In 1980, the University of Mississippi surveyed and excavated the surface of 22PA587. The human remains and surface collection were transferred from the University of Mississippi to MDAH in 2021. According to limited documentation, the site was also excavated in 1989 and possibly 1990 by MDAH personnel. However, no report for either excavation is available. In 1991, archaeologist Jay Mitchell performed a salvage excavation of a burial pit at the site and transferred the human remains and associated collection to MDAH.

Human remains representing, at least, one individual has been identified from 22PA10 (Mothershead). The human remains were removed at an unknown date and an unknown provenience by collector Glenn Johnson. No associated funerary objects are present.

Human remains representing, at least, one individual has been identified from Monroe County, Mississippi. The one lot of associated funerary objects is a gorget. The human remains and the gorget are likely from a mound that was bulldozed in the 1960s near Amory and Nettleton, Mississippi. The human remains and the gorget were transferred to MDAH from the Arkansas Archaeological Survey in 2021.

Human remains representing, at least, one individual has been identified from Monroe County, Mississippi. No associated funerary objects are present. The human remains were recovered from a cotton field, located near Aberdeen, in the Tombigbee River bottom during the 1930s and donated to the Evans Memorial Library. The human remains were transferred to MDAH from the Evans Memorial Library in 2023.

Human remains representing, at least, one individual has been identified from an unknown location in Monroe County, Mississippi. The one lot of associated funerary objects are lithics. The human remains and objects were collected by a private individual named Clarence Day in the area surrounding Aberdeen, MS along the Tombigbee River.

Human remains representing, at least, one individual has been identified from 22MO940 (Nettleton). The one lot of associated funerary objects are faunal remains. The human remains and faunal remains were possibly removed from the site as part of a survey done by MDAH personnel in 1978.

Human remains representing at least, three individuals have been identified at 22PS529 (Trimble). The two associated funerary objects are one lot of Native American ceramic and one lot wood. The human remains and objects were transferred from the University of Mississippi to MDAH in 2021.

Human remains representing, at least, one individual has been identified from 22IT500/22IT532 (Fear's Place or Ironwood Bluff). The one lot of associated funerary objects associated with this site is one lot of lithics. Although the site was noted in 1970, the provenance of these remains and associated funerary objects is mostly unknown. The remains were transferred from Louisiana State University to MDAH in 2022 and the lot of associated funerary objects are thought to have been collected in 1979.

Human remains representing, at least, one individual has been identified from 22CL536 . The four lots of associated funerary objects are one lot Native American ceramics, one lot shell, one lot lithic, and one lot ceramic pipe. The human remains and objects were removed during a surface collection conducted by MDAH in 1979.

Human remains representing, at least, one individual has been identified from 22CL597 (Harmon Lake #3). The four lots of associated funerary objects are one lot Native American ceramics, one lot faunal remains, one lot clay, and one lot lithic. The human remains and objects were collected during a surface collection conducted by MDAH in 1979.

No human remains are present; the remaining objects associated with human remains from 22CL598 (Chuquatonchee #2) previously listed in a Notice of Inventory Completion published in the Federal Register on March 29, 2023 (FR 2023-06474) have been identified. The four lots of associated funerary objects are one lot Native American ceramics, one lot clay, one lot ochre, and one lot lithics. Some of the objects are from a surface collection conducted by MDAH in 1979. There is also a collection with an unknown history.

Human remains representing, at least, one individual has been identified from 22CL604 (Smith #3). The three lots of associated funerary objects are one lot clay, one lot Native American ceramics and one lot lithic. The human remains and objects were collected during a surface collection conducted by MDAH in 1979.

Human remains representing, at least, one individual has been identified from 22CL620 (Hang Kettle #1). The five lots of associated funerary objects are one lot Native American ceramics, one lot shell, one lot lithic, one lot discoidal and one lot petrified wood. The human remains and objects may have been collected during a survey conducted by MDAH in the 1970s and/or 1980s.

Human remains representing, at least, one individual has been identified from 22CL763 (Sprouse). The four lots of associated funerary objects are one lot Native American ceramic, one lot shell, one lot clay and one lot lithic. The remains and objects may have been collected during a survey conducted by MDAH in the 1980s.

Through Tribal consultation, these 22 individuals and 39 lots of associated funerary objects were identified as culturally affiliated with The Chickasaw Nation. To our knowledge, no known hazardous substances were used to treat any of the human remains or the associated funerary objects.

Cultural Affiliation

Based on the information available and the results of consultation, cultural affiliation is clearly identified by the information available about the human remains and associated funerary objects described in this notice.

Determinations

The Mississippi Department of Archives and History has determined that:

• The human remains described in this notice represent the physical remains of 22 individuals of Native American ancestry.

• The 39 lots of objects described in this notice are reasonably believed to have been placed intentionally with or near individual human remains at the time of death or later as part of the death rite or ceremony.

• There is a connection between the human remains and associated funerary objects described in this notice and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 15, 2026. If competing requests for repatriation are received, the Mississippi Department of Archives and History must determine the most appropriate requestor prior to repatriation. Requests for joint repatriation of the human remains and associated funerary objects are considered a single request and not competing requests. The Mississippi Department of Archives and History is responsible for sending a copy of this notice to the Indian Tribes and Native Hawaiian organizations identified in this notice and any other consulting parties.

Authority: Native American Graves Protection and Repatriation Act, 25 U.S.C. 3003, and the implementing regulations, 43 CFR 10.10.

Dated: November 20, 2025.
Melanie O'Brien,
Manager, National NAGPRA Program.

[FR Doc. 2025-22921 Filed 12-15-25; 8:45 am]

BILLING CODE 4312-52-P